DEPARTMENT OF COMMERCE

International Trade Administration

[A-508-809, A-821-813, A-570-864, C-508-810]

Notice of Postponement of Preliminary Determinations of Sales at Less Than Fair Value: Pure Magnesium From Israel, the Russian Federation, and the People's Republic of China and Alignment of Final Countervailing Duty Determination With Final Antidumping Duty Determinations: Pure Magnesium From Israel

AGENCY: Import Administration, International Trade Administration, Department of Commerce.

EFFECTIVE DATE: March 13, 2001.

FOR FURTHER INFORMATION CONTACT: Craig Matney (Israel) or James Nunno (the Russian Federation and the People's Republic of China) at (202) 482-1778 and (202) 482-0783, respectively; Import Administration, International Trade Administration, U.S. Department of Commerce, 14th Street and Constitution Avenue, NW, Washington, DC 20230.

Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR part 351 (April 2000).

Postponement of Preliminary Determinations

On November 6, 2000, the Department initiated antidumping duty investigations of imports of pure magnesium from Israel, the Russian Federation, and the People's Republic of China. The notice of initiation stated that we would make our preliminary determinations for the antidumping duty investigations by March 26, 2001. See Initiation of Antidumping Duty Investigations: Pure Magnesium From Israel, the Russian Federation, and the People's Republic of China, 65 FR 68,121, 68,125 (November 14, 2000) (Initiation Notice).

On March 1, 2001, the petitioners ¹ made a timely request pursuant to 19 CFR 351.205(e) for a 28-day postponement of the preliminary determinations, until April 23, 2001, pursuant to section 733(c)(1) of the Act. The petitioners requested postponements for additional time to submit comments regarding the respondents' supplemental questionnaire responses and for the Department to analyze the respondents' data and seek additional data, if necessary, prior to the issuance of the preliminary determinations.

¹ The petitioners in this case are Magnesium Corporation of America (Magcorp), the United Steel Workers of America, Local 8319, and the United Steelworkers of America, Local 482 (collectively, “the petitioners”).

For the reasons identified by the petitioners, and because there are no compelling reasons to deny the request, we are postponing the preliminary determinations under section 733(c)(1) of the Act. We will make our preliminary determinations no later than April 23, 2001.

Alignment With Final Antidumping Duty Determination

On February 27, 2001, the petitioners submitted a letter requesting alignment of the final determination in the countervailing duty investigation of pure magnesium from Israel with the final determinations in the companion antidumping duty investigations. (See Initiation Notice.) In accordance with section 705(a)(1) of the Act, we are aligning the final determination in the countervailing duty investigation of pure magnesium from Israel with the final determinations in the antidumping investigations of pure magnesium from China, Israel, and Russia.

This determination is published pursuant to sections 703(f), 733(f), and 777(i) of the Act. Effective January 20, 2001, Bernard T. Carreau is fulfilling the duties of the Assistant Secretary for Import Administration.

Dated: March 6, 2001.
Bernard T. Carreau,
Deputy Assistant Secretary, Import Administration.

[FR Doc. 01-6121 Filed 3-12-01; 8:45 am]

BILLING CODE 3510-DS-P